DEPARTMENT OF THE INTERIOR

National Park Service

[NPS-WASO-NAGPRA-NPS0032428; PPWOCRADN0-PCU00RP14.R50000]

Notice of Inventory Completion: University of San Diego, San Diego, CA

AGENCY: National Park Service, Interior.

ACTION: Notice.

SUMMARY: The University of San Diego has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the University of San Diego. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of San Diego at the address in this notice by September 16, 2021.

FOR FURTHER INFORMATION CONTACT: Derrick Cartwright, University of San Diego, 5998 Alcala Park, San Diego, CA 92110, telephone (619) 260-7632, email dcartwright@sandiego.edu.

SUPPLEMENTARY INFORMATION: Notice is here given in accordance with the Native American Graves Protection and Repatriation Act (NAGPRA), 25 U.S.C. 3003, of the completion of an inventory of human remains under the control of the University of San Diego, San Diego, CA. The human remains were removed from the Aleutian Islands, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by University of San Diego staff in consultation with representatives of the Alutiiq Museum and Archaeological Repository, acting as agent for the Alutiiq Tribe of Old Harbor [previously listed as Native Village of Old Harbor and Village of Old Harbor]; Central Council of the Tlingit & Haida Indian Tribes; Kaguyak Village; Native Village of Afognak; Native Village of Akhiok; Native Village of Larsen Bay; Native Village of Ouzinkie; Native Village of Port Lions; Sun'aq Tribe of Kodiak [previously listed as Shoonaq' Tribe of Kodiak]; and the Tangirnaq Native Village [previously listed as Lesnoi Village (aka Woody Island)].

Invitations to consult were extended to the Agdaagux Tribe of King Cove; Akiachak Native Community; Akiak Native Community; Alatna Village; Algaaciq Native Village (St. Mary's); Allakaket Village; Angoon Community Association; Anvik Village; Arctic Village (See Native Village of Venetie Tribal Government); Asa'carsarmiut Tribe; Beaver Village; Birch Creek Tribe; Chalkyitsik Village; Cheesh-Na Tribe [previously listed as Native Village of Chistochina]; Chevak Native Village; Chickaloon Native Village; Chignik Bay Tribal Council [previously listed as Native Village of Chignik]; Chignik Lake Village; Chilkat Indian Village (Klukwan); Chilkoot Indian Association (Haines); Chinik Eskimo Community (Golovin); Chuloonawick Native Village; Circle Native Community; Craig Tribal Association [previously listed as Craig Community Association]; Curyung Tribal Council; Douglas Indian Association; Egegik Village; Eklutna Native Village; Emmonak Village; Evansville Village (aka Bettles Field); Galena Village (aka Louden Village); Gulkana Village Council [previously listed as Gulkana Village]; Healy Lake Village; Holy Cross Tribe [previously listed as Holy Cross Village]; Hoonah Indian Association; Hughes Village; Huslia Village; Hydaburg Cooperative Association; Igiugig Village; Inupiat Community of the Arctic Slope; Iqugmiut Traditional Council [previously listed as Iqurmuit Traditional Council]; Ivanof Bay Tribe [previously listed as Ivanoff Bay Tribe and Ivanoff Bay Village]; Kaktovik Village (aka Barter Island); Kasigluk Traditional Elders Council; Kenaitze Indian Tribe; Ketchikan Indian Community [previously listed as Ketchikan Indian Corporation]; King Island Native Community; King Salmon Tribe; Klawock Cooperative Association; Knik Tribe; Kokhanok Village; Koyukuk Native Village; Levelock Village; Lime Village; Manley Hot Springs Village; Manokotak Village; McGrath Native Village; Mentasta Traditional Council; Metlakatla Indian Community, Annette Island Reserve; Naknek Native Village; Native Village of Akutan; Native Village of Aleknagik; Native Village of Ambler; Native Village of Atka; Native Village of Atqasuk [previously listed as Atqasuk Village (Atkasook)]; Native Village of Barrow Inupiat Traditional Government; Native Village of Belkofski; Native Village of Brevig Mission; Native Village of Buckland; Native Village of Cantwell; Native Village of Chenega (aka Chanega); Native Village of Chignik Lagoon; Native Village of Chitina; Native Village of Chuathbaluk (Russian Mission, Kuskokwim); Native Village of Council; Native Village of Deering; Native Village of Diomede (aka Inalik); Native Village of Eagle; Native Village of Eek; Native Village of Ekuk; Native Village of Ekwok [previously listed as Ekwok Village]; Native Village of Elim; Native Village of Eyak (Cordova); Native Village of False Pass; Native Village of Fort Yukon; Native Village of Gakona; Native Village of Gambell; Native Village of Georgetown; Native Village of Goodnews Bay; Native Village of Hamilton; Native Village of Hooper Bay; Native Village of Kanatak; Native Village of Karluk; Native Village of Kiana; Native Village of Kipnuk; Native Village of Kivalina; Native Village of Kluti Kaah (aka Copper Center); Native Village of Kobuk; Native Village of Kongiganak; Native Village of Kotzebue; Native Village of Koyuk; Native Village of Kwigillingok; Native Village of Kwinhagak (aka Quinhagak); Native Village of Marshall (aka Fortuna Ledge); Native Village of Mary's Igloo; Native Village of Mekoryuk; Native Village of Minto; Native Village of Nanwalek (aka English Bay); Native Village of Napaimute; Native Village of Napakiak; Native Village of Napaskiak; Native Village of Nelson Lagoon; Native Village of Nightmute; Native Village of Nikolski; Native Village of Noatak; Native Village of Nuiqsut (aka Nooiksut); Native Village of Nunam Iqua [previously listed as Native Village of Sheldon's Point]; Native Village of Nunapitchuk; Native Village of Paimiut; Native Village of Perryville; Native Village of Pilot Point; Native Village of Point Hope; Native Village of Point Lay; Native Village of Port Graham; Native Village of Port Heiden; Native Village of Ruby; Native Village of Saint Michael; Native Village of Savoonga; Native Village of Scammon Bay; Native Village of Selawik; Native Village of Shaktoolik; Native Village of Shishmaref; Native Village of Shungnak; Native Village of Stevens; Native Village of Tanacross; Native Village of Tanana; Native Village of Tatitlek; Native Village of Tazlina; Native Village of Teller; Native Village of Tetlin; Native Village of Tuntutuliak; Native Village of Tununak; Native Village of Tyonek; Native Village of Unalakleet; Native Village of Unga; Native Village of Venetie Tribal Government (Arctic Village and Village of Venetie); Native Village of Wales; Native Village of White Mountain; Nenana Native Association; New Koliganek Village Council; New Stuyahok Village; Newhalen Village; Newtok Village; Nikolai Village; Ninilchik Village; Nome Eskimo Community; Nondalton Village; Noorvik Native Community; Northway Village; Nulato Village; Nunakauyarmiut Tribe; Organized Village of Grayling (aka Holikachuk); Organized Village of Kake; Organized Village of Kasaan; Organized Village of Kwethluk; Organized Village of Saxman; Orutsararmiut Traditional Native Council [previously listed as Orutsararmuit Native Village (aka Bethel)]; Oscarville Traditional Village; Pauloff Harbor Village; Pedro Bay Village; Petersburg Indian Association; Pilot Station Traditional Village; Pitka's Point Traditional Council [previously listed as Native Village of Pitka's Point]; Platinum Traditional Village; Portage Creek Village (aka Ohgsenakale); Pribilof Islands Aleut Communities of St. Paul & St. George Islands; Qagan Tayagungin Tribe of Sand Point [previously listed as Qagan Tayagungin Tribe of Sand Point Village]; Qawalangin Tribe of Unalaska; Rampart Village; Salamatof Tribe [previously listed as Village of Salamatoff]; Seldovia Village Tribe; Shageluk Native Village; Sitka Tribe of Alaska; Skagway Village; South Naknek Village; Stebbins Community Association; Takotna Village; Telida Village; Traditional Village of Togiak; Tuluksak Native Community; Twin Hills Village; Ugashik Village; Umkumiut Native Village [previously listed as Umkumiute Native Village]; Village of Alakanuk; Village of Anaktuvuk Pass; Village of Aniak; Village of Atmautluak; Village of Bill Moore's Slough; Village of Chefornak; Village of Clarks Point; Village of Crooked Creek; Village of Dot Lake; Village of Iliamna; Village of Kalskag; Village of Kaltag; Village of Kotlik; Village of Lower Kalskag; Village of Ohogamiut; Village of Red Devil; Village of Sleetmute; Village of Solomon; Village of Stony River; Village of Wainwright; Wrangell Cooperative Association; Yakutat Tlingit Tribe; and the Yupiit of Andreafski.

Hereafter, the Native entities listed in this section are referred to as “The Consulted and Invited Tribes.”

History and Description of the Remains

Sometime prior to 2000, human remains representing, at minimum, two individuals were removed from the Aleutian Islands, AK. On December 12, 2002, Rose A. Tyson donated them to the University of San Diego Anthropology Department as part of a larger donation of human and non-human remains assembled by Dr. Spencer L. Rogers. Dr. Rogers, a physical anthropologist, worked at San Diego State University, where he began to assemble the collection. He acquired human and non-remain remains from various sources, including biological supply houses, students, donors, and archeological expeditions (primarily in the Southwestern U.S.). Dr. Rogers brought the collection with him to the San Diego Museum of Man (now the Museum of Us), where he served as the Scientific Director and Ms. Tyson's supervisor. Dr. Rogers gave his collection to Ms. Tyson before he died in 2000.

One individual, an adult male, is represented by a cranium (no mandible). He has Unangan (aka Aleut) and Scandinavian features; well-developed brow ridges are a common Unangan feature after the arrival of the Russians in 1760. The second individual, likely an adult female, has Unangan features; the size of the temporalis and masseter musculature are consistent with Unangan ancestry. The green staining around both of her ears suggests the presence of copper earrings. Such earrings, together with the lighter coloration of the bone, would indicate that she was alive after 1760. No known individuals were identified. No associated funerary objects are present.

Determinations Made by the University of San Diego

Officials of the University of San Diego have determined that:

• Pursuant to 25 U.S.C. 3001(9), the human remains described in this notice represent the physical remains of two individuals of Native American ancestry.

• Pursuant to 25 U.S.C. 3001(2), there is a relationship of shared group identity that can be reasonably traced between the Native American human remains and the Agdaagux Tribe of King Cove; Native Village of Akutan; Native Village of Atka; Native Village of Belkofski; Native Village of Unga; Pauloff Harbor Village; Pribilof Islands Aleut Communities of St. Paul & St. George Islands (Sain George Island and Saint Paul Island); Qagan Tayagungin Tribe of Sand Point [previously listed as Qagan Tayagungin Tribe of Sand Point Village]; and the Qawalangin Tribe of Unalaska (hereafter referred to as “The Tribes”).

Additional Requestors and Disposition

Lineal descendants or representatives of any Indian Tribe or Native Hawaiian organization not identified in this notice that wish to request transfer of control of these human remains should submit a written request with information in support of the request to Derrick Cartwright, University of San Diego, 5998 Alcala Park, San Diego, CA 92110, telephone (619) 260-7632, email dcartwright@sandiego.edu, by September 16, 2021. After that date, if no additional requestors have come forward, transfer of control of the human remains to The Tribes may proceed.

The University of San Diego is responsible for notifying The Consulted and Invited Tribes that this notice has been published.

Dated: August 4, 2021.
Melanie O'Brien,
Manager, National NAGPRA Program.

[FR Doc. 2021-17564 Filed 8-16-21; 8:45 am]

BILLING CODE 4312-52-P